FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017760N.

Name: Cendian Corporation.

Address: Six Concourse Parkway, Suite 2800, Atlanta, GA 30328.

Date Revoked: May 22, 2005.

Reason: Surrendered license voluntarily.

License Number: 014766NF.

Name: China Container Line (USA) Inc., c/o China Container Line Ltd.

Address: 17800 Castleton Street, Suite 158, City of Industry, CA 91748.

Date Revoked: May 1, 2005.

Reason: Surrendered license voluntarily.

License Number: 018963N.

Name: Crane Logistics Inc.

Address: 150-14 132nd Avenue, Second Floor, Jamaica, NY 11434.

Date Revoked: May 5, 2005.

Reason: Failed to maintain a valid bond.

License Number: 013154N.

Name: Fastpak Express Corporation.

Address: 21818 South Wilmington Avenue, Suite 411, Long Beach, CA 90810.

Date Revoked: May 4, 2005.

Reason: Failed to maintain a valid bond.

License Number: 017693N.

Name: GSA Shipping, Inc.

Address: 500 W. 140th Street, Gardena, CA 90248.

Date Revoked: May 6, 2005.

Reason: Failed to maintain a valid bond.

License Number: 012108N.

Name: IET-International Exhibits Transport, Inc.

Address: 444 Madison Avenue, 37th Floor, New York, NY 10022.

Date Revoked: May 6, 2005.

Reason: Failed to maintain a valid bond.

License Number: 015771F.

Name: Juan Holguin dba Metrofreight International.

Address: 6515 Blvd., East, Suite 1P, West New York, NJ 07093.

Date Revoked: April 30, 2003.

Reason: Surrendered license voluntarily.

License Number: 004591F.

Name: KMC Int'l, Inc.

Address: 5796 Edgar Tumbleston Road, Meggett, SC 29449.

Date Revoked: April 30, 2005.

Reason: Failed to maintain a valid bond.

License Number: 003957N.

Name: Marmara, Inc.

Address: 6 Self Boulevard, Carteret, NJ 07008.

Date Revoked: April 22, 2005.

Reason: Failed to maintain a valid bond.

License Number: 015490F.

Name: Max Cargo, Inc.

Address: 9111 S. La Cienega Blvd., #104, Suite 107, Inglewood, CA 90301.

Date Revoked: April 30, 2005.

Reason: Failed to maintain a valid bond.

License Number: 016400N.

Name: North American (U.K.) Limited.

Address: 7-8 Borrowdale Road, Workingham, Berkshire RG41 5UX, United Kingdom.

Date Revoked: May 4, 2005.

Reason: Failed to maintain a valid bond.

License Number: 019391N.

Name: United Logistics Management Inc.

Address: 17022 De Groot Place, Cerritos, CA 90703.

Date Revoked: May 9, 2005.

Reason: Surrendered license voluntarily.

License Number: 016622NF.

Name: U.S. Rim Inc. dba U.S. Rim Shipping.

Address: 9420 Telstar Avenue, Suite 205, El Monte, CA 91731.

Date Revoked: April 13, 2005.

Reason: Surrendered license voluntarily.

Sandra L. Kusumoto,
Director, Bureau of Certification and Licensing.

[FR Doc. 05-9931 Filed 5-17-05; 8:45 am]

BILLING CODE 6730-01-P